DEPARTMENT OF COMMERCE

Foreign-Trade Zones Board

[B-37-2024]

Foreign-Trade Zone (FTZ) 80; Authorization of Production Activity; Senior Operation LLC; (Expansion Joints and Clamshell Bellows); New Braunfels, Texas

On June 28, 2024, Senior Operation LLC submitted a notification of proposed production activity to the FTZ Board for its facility within FTZ 80, in New Braunfels, Texas.

The notification was processed in accordance with the regulations of the FTZ Board (15 CFR part 400), including notice in the Federal Register inviting public comment (89 FR 55221, July 3, 2024). On October 28, 2024, the applicant was notified of the FTZ Board's decision that no further review of the activity is warranted at this time. The production activity described in the notification was authorized, subject to the FTZ Act and the FTZ Board's regulations, including section 400.14.

Dated: October 28, 2024.
Camille R. Evans,
Acting Executive Secretary.

[FR Doc. 2024-25371 Filed 10-30-24; 8:45 am]

BILLING CODE 3510-DS-P